DEPARTMENT OF COMMERCE

National Oceanic and Atmospheric Administration

RIN 0648-XV11

Endangered Species; File No. 15135

AGENCY: National Marine Fisheries Service (NMFS), National Oceanic and Atmospheric Administration (NOAA), Commerce.

ACTION: Notice; receipt of application.

SUMMARY: Notice is hereby given that Mr. Blake Price, 3411 Arendall Street, Morehead City, NC, 28557, has applied in due form for a permit to take threatened and endangered sea turtles for purposes of scientific research.

DATES: Written, telefaxed, or e-mail comments must be received on or before April 12, 2010.

ADDRESSES: The application and related documents are available for review by selecting “Records Open for Public Comment” from the Features box on the Applications and Permits for Protected Species (APPS) home page, https://apps.nmfs.noaa.gov, and then selecting File No. 15135 from the list of available applications. These documents are also available for review upon written request or by appointment in the following office(s):

Permits, Conservation and Education Division, Office of Protected Resources, NMFS, 1315 East-West Highway, Room 13705, Silver Spring, MD 20910; phone (301) 713-2289; fax (301) 713-0376; and

Southeast Region, NMFS, 263 13th Avenue South, St. Petersburg, FL 33701; phone (727) 824-5312; fax (727) 824-5309.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Carrie Hubard or Kate Swails, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant has requested a permit to test commercial gillnet gear that may have the potential to eliminate or reduce sea turtle bycatch. The research would involve testing modified large mesh (> 5 inches) commercial gillnets targeting southern flounder (Paralichthys lethostigma) in shallow waters of Core Sound, North Carolina. Test nets would be configured with illuminated, green Lindgen-Pitman Electralume lights that have shown promise for reducing sea turtle bycatch in another location. Two contracted commercial gillnet vessels would conduct a total of sixty fishing trips, setting five matched (control vs. experimental) sets of gillnets each day. Each matched set would consist of 100 yards of control net (gillnet without illuminated lights) and 100 yards of experimental net (gillnet with illuminated lights), for a total of 1,000 yards of net a day. With the exception of the lights, the gillnets would be identical in all other respects (e.g., twine material/size; hanging ration; stretch mesh). To follow fishing protocols, nets would be set at dusk and retrieved in the early morning. Turtles would be identified to species, measured, photographed, and flipper and PIT tagged. Captured sea turtles would be examined for any possible injuries before being released away from fishing area. Any comatose or debilitated turtles would be transported to a rehabilitation center. During the life of the permit, the applicant requests authorization to capture 18 Kemp's ridley (Lepidochelys kempii), 15 loggerhead (Caretta caretta), 31 green (Chelonia mydas), 2 hawksbill (Eretmochelys imbricata), and 2 leatherback (Dermochelys coriacea) sea turtles. Of the captured turtles, 5 Kemp's ridleys, 5 loggerheads, 15 greens, 2 hawksbills, and 2 leatherbacks may be mortalities. The permit would expire in December 2011.

Dated: March 9, 2010.
Tammy C. Adams,
Acting Chief, Permits, Conservation and Education Division, Office of Protected Resources, National Marine Fisheries Service.

[FR Doc. 2010-5452 Filed 3-11-10; 8:45 am]

BILLING CODE 3510-22-S